DEPARTMENT OF THE INTERIOR

Bureau of Land Management

[LLNML003100 L14300000.ES0000; NMNM 122361]

Notice of Realty Action: Recreation and Public Purposes Act Classification; Lease and Conveyance of Public Land, Doña Ana County, New Mexico

AGENCY: Bureau of Land Management, Interior.

ACTION: Notice of Realty Action.

SUMMARY: The Cultural Department of the State of New Mexico has filed an application with the Bureau of Land Management (BLM) for lease and/or conveyance of approximately 33.01 acres of public lands, in two individual parcels, under the Recreation and Public Purposes (R&PP) Act, as amended. The lands are proposed to be used for the construction of a Veteran's Museum and a park in Doña Ana County, New Mexico. The BLM has examined the lands and found them suitable to be classified for lease and/or conveyance under the provisions of the R&PP Act, as amended.

DATES: Interested parties may submit written comments regarding the proposed classification for lease and/or conveyance of the lands on or before March 25, 2011.

ADDRESSES: Written comments concerning this notice should be addressed to: District Manager, BLM Las Cruces District Office, 1800 Marquess Street, Las Cruces, New Mexico 88005.

FOR FURTHER INFORMATION CONTACT: Frances Martinez, Realty Specialist, at the above address, by phone (575) 525-4385, or by e-mail at: Frances_Martinez@blm.gov.

SUPPLEMENTARY INFORMATION: In accordance with Section 7 of the Taylor Grazing Act, 43 U.S.C. 315(f), and Executive Order No. 6910, the following public lands in Doña Ana County, New Mexico, have been examined and found suitable for classification for lease and/or conveyance to the Cultural Department of the State of New Mexico, under the provisions of the R&PP Act, as amended, (43 U.S.C. 869 et seq.). The lands, located in the Las Cruces metropolitan area, are hereby classified accordingly and described below:

Museum Parcel

New Mexico Principal Meridian

T. 22 S., R. 2 E.,

Sec. 28, lot 22.

The area described contains 13.61 acres in Doña Ana County, according to the official plat of the survey of the said land, on file in the BLM Las Cruces District Office.

Park Parcel

New Mexico Principal Meridian

T. 22 S., R. 2 E.,

Sec. 28, lot 43.

The area described contains 19.40 acres in Doña Ana County, according to the official plat of the survey of the said land, on file in the BLM Las Cruces District.

In accordance with the R&PP Act, the Cultural Department of the State of New Mexico filed an application for the above described 33.01 acres of public lands for a proposed New Mexico Veteran's Museum and Park. The Museum and Park would be situated adjacent to Highway 70 in Las Cruces, New Mexico; a desirable location because of high traffic. The Museum facility would be the centerpiece of a campus of indoor and outdoor facilities including a parking area, Veteran's Services Center, and a building for the care, restoration and storage of artifacts. The Park, located near the Veteran's Museum facility, would feature a military style, grass-parade grounds with public seating, an amphitheater, and a family playground and picnic area. The facility would service the entire State of New Mexico and other visitors from across the United States.

Using the BLM R&PP Pricing Guidelines, it has been determined there will be no cost for the lease and/or conveyance of the Park parcel and the rental and sale price of the lease and/or conveyance of the Museum parcel will be determined at regular pricing and will be one-half of fair market value. The public lands would first be leased under the provisions of 43 CFR 2912 for a period of time prior to issuance of a patent to ensure development of the subject public lands in accordance with the development plan and compliance with the approved management plan. The lands would be periodically examined to determine whether the lessee or patentee has complied with the terms of the lease or patent.

Additional detailed information pertaining to this application, plan of development, and site plans is contained in case file NMNM 122361 located at the BLM Las Cruces District Office at the address above.

The lands are not needed for any Federal purpose. Lease and/or conveyance of these lands is consistent with the BLM Mimbres Resource Management Plan, dated December 1993, and would be in the public interest. The Cultural Department has not applied for more than 640 acres for the Museum and Park in a year, the limit set in 43 CFR 2741.7(a)(2), and has submitted a statement in compliance with the regulations at 43 CFR 2741.4(b).

Any lease or conveyance will be subject to the provisions of the R&PP Act, including but not limited to, the terms required by 43 CFR 2741.9, and applicable regulations of the Secretary of the Interior. Any lease or conveyance of these lands will also contain the following reservations to the United States:

1. A right-of-way for ditches and canals constructed by the authority of the United States, Act of August 30, 1890 (43 U.S.C. 945);

2. All mineral deposits in the lands so patented, and to it, or persons authorized by it, the right to prospect for, mine, and remove such deposits from the same under applicable law and such regulations as the Secretary of the Interior may prescribe;

3. Right-of-way NMNM 022519 for highway purposes as have been granted to the New Mexico Highway and Transportation Department, its successors or assigns, for a Federal Aid Project across public land, pursuant to Section 17 of the Federal Highway Act of November 9, 1921, (42 Stat. 216, 23 U.S.C. Sec. 18); and

4. Any other reservations that the authorized officer determines appropriate to ensure public access and proper management of Federal lands and interests therein.

Any lease or conveyance of the public lands will contain any terms or conditions required by law or regulation, including, but not limited to, any terms or conditions required by 43 CFR 2741.9; and will contain an appropriate indemnification clause protecting the United States from claims arising out of the lessee's or patentee's use, occupancy, or operations on the leased or conveyed lands. It will also contain any other terms or conditions deemed necessary or appropriate by the authorized officer. Any lease or patent of the public lands will be subject to valid existing rights. Subject to limitations prescribed by law and regulation, prior to conveyance, a holder of any right-of-way within the lease area may be given the opportunity to amend the right-of-way for conversion to a new term, including perpetuity, if applicable.

Lease and/or conveyance of the public land shall be subject to valid existing rights and the following rights-of-way:

1. Right-of-way NMNM 0554552 for transmission line purposes granted to El Paso Electric Company, its successors or assigns, pursuant to the Act of March 4, 1911 (36 Stat. 1253; 43 U.S.C. 961), as amended;

2. Right-of-way NMNM 0000895 for transmission line purposes granted to El Paso Electric Company, its successors or assigns, pursuant to the Act of October 21, 1976 (90 Stat. 2776; 43 U.S.C. 1761);

3. Right-of-way NMNM 12777 for telephone line purposes granted to Qwest Corporation, its successors or assigns, pursuant to the Act of March 4, 1911 (36 Stat. 1253; 43 U.S.C. 961), as amended;

4. Right-of-way NMNM 64780 for aerial line purposes granted to Comcast of New Mexico, its successors or assigns, pursuant to the Act of October 21, 1976 (90 Stat. 2776; 43 U.S.C. 1761);

5. Right-of-way NMNM 63893 for transmission line purposes granted to El Paso Electric Company, its successors or assigns, pursuant to the Act of October 21, 1976 (90 Stat. 2776; 43 U.S.C. 1761);

6. Right-of-way NMNM 86821 for gas pipeline purposes granted to Rio Grande Natural Gas, its successors or assigns, pursuant to Section 28 of the Mineral Leasing Act of 1920, as amended (30 U.S.C. 185); and

7. Right-of-way NMNM 104169 for water pipeline purposes granted to City of Las Cruces, its successors or assigns, pursuant to Title V of the Federal Land Policy and Management Act of October 21, 1976 (90 Stat. 2776; 43 U.S.C. 1761).

Detailed information concerning this proposed project, including, but not limited to, documentation relating to compliance with applicable environmental and cultural resource laws, is available for review at the BLM Las Cruces District Office at the address above.

Upon publication of this Notice in the Federal Register, the lands described will be segregated from appropriation under the public land laws, including the general mining laws, except for lease or conveyance under the R&PP Act and leasing under the mineral leasing laws.

Classification Comments: Interested parties may submit comments involving the suitability of the lands for the proposed museum and park. Comments on the classification are restricted to whether the lands are physically suited for the proposal, whether the use will maximize the future use or uses of the lands, whether the use is consistent with local planning and zoning, or if the use is consistent with State and Federal programs.

Additional Comments: Interested parties may submit comments regarding the specific use proposed in the application and plan of development, whether the BLM followed proper administrative procedures in reaching the decision, or any other factor not directly related to the suitability of the land for R&PP Act use.

Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM New Mexico State Director, who may sustain, vacate, or modify this realty action. In the absence of any adverse comments, the classification of the land described in this notice will become effective on April 11, 2011. The lands will not be available for lease and/or conveyance until after the classification becomes effective.

Authority: 43 CFR 2741.5.

Bill Childress,
District Manager, Las Cruces.

[FR Doc. 2011-2710 Filed 2-7-11; 8:45 am]

BILLING CODE 4310-VC-P